NUCLEAR REGULATORY COMMISSION

[Docket No. 40-8838; NRC-2019-0027]

U.S. Department of the Army; Jefferson Proving Ground

AGENCY: Nuclear Regulatory Commission.

ACTION: Environmental assessment and finding of no significant impact; issuance.

SUMMARY: The U.S. Nuclear Regulatory Commission (NRC) is issuing an environmental assessment (EA) and finding of no significant impact (FONSI) for a proposed amendment of NRC source materials license SUB-1435 held by the U.S. Department of the Army (Army) for the Jefferson Proving Ground from “possession only for decommissioning” to “possession only.” The proposed amendment of the Army's license would also include an exemption from the NRC's decommissioning timeliness requirements in the regulations. The EA, “Final Environmental Assessment for the Proposed Amendment of Materials License SUB-1435, Jefferson Proving Ground, Southeastern Indiana (Jefferson, Ripley, and Jennings Counties),” documents the NRC staff's environmental review of the license amendment application.

DATES: The final EA is available on June 27, 2019.

ADDRESSES: Please refer to Docket ID NRC-2019-0027 when contacting the NRC about the availability of information regarding this document. You may obtain publicly-available information related to this document using any of the following methods:

• Federal Rulemaking Website: Go to http://www.regulations.gov and search for Docket ID NRC-2019-0027. Address questions about Docket IDs in Regulations.gov to Jennifer Borges-Roman; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The final EA is available in ADAMS under Accession No. ML19169A022.

• NRC's PDR: You may examine and purchase copies of public documents at the NRC's PDR, Room O1-F21, One White Flint North, 11555 Rockville Pike, Rockville, Maryland 20852.

FOR FURTHER INFORMATION CONTACT: Christine Pineda, Office of Nuclear Material Safety and Safeguards; telephone: 301-415-6789; email: Christine.Pineda@nrc.gov; U.S. Nuclear Regulatory Commission, Washington, DC 20555-0001.

SUPPLEMENTARY INFORMATION:

I. Introduction

Jefferson Proving Ground (JPG) was established in 1940 on 224 square kilometers (km²) [55,265 acres (ac)] in parts of Jefferson, Ripley, and Jennings counties in southeastern Indiana for the production and specification testing of conventional ammunition components. The site was used by the Army between 1941 and 1994 for munitions testing and, during that time, the Army also test-fired depleted uranium (DU) projectiles into the 8.4-square km² [2,080-ac] DU Impact Area, which is located within the JPG installation. The DU test firings began on March 18, 1984 and concluded on May 2, 1994. The Army estimates that a high density of high-explosive unexploded ordnance is present in the DU Impact Area.

The NRC is considering a request for an amendment to the Army's source materials license SUB-1435. The license authorizes possession only by the Army of up to 80,000 kilograms (kg) [176,370 pounds (lb)] of DU metal, alloy, and/or other forms, kept onsite, for the purpose of decommissioning, in the restricted area known as the “Depleted Uranium Impact Area” (DU Impact Area) at the JPG site in southeastern Indiana. The NRC is considering a license amendment that would modify the license from “possession only for decommissioning” to “possession only” and an exemption from the NRC's decommissioning timeliness requirements in title 10 of the Code of Federal Regulations (10 CFR) 40.42(d). The need for this NRC licensing action is to ensure the safe possession of radioactive materials (in the form of DU). The Army needs to delay remediation of the DU Impact Area because remediation is prohibitively expensive and poses a risk of potential explosions due to the presence of a large amount of unexploded ordnance.

In accordance with NRC's regulations in 10 CFR part 51, “Environmental Protection Regulations for Domestic Licensing and Related Regulatory Functions,” that implement the National Environmental Policy Act of 1969, as amended (NEPA) (42 U.S.C. 4321 et seq.), the NRC staff prepared a draft EA documenting its environmental review of the license amendment application (ADAMS Accession No. ML19008A310). On February 4, 2019, the NRC published a Notice of Availability of the EA for public review and comment (84 FR 1522), and the public comment period closed on March 6, 2019. Public comments are addressed in Appendix D in the final EA. The final EA is available for public inspection as indicated in the ADDRESSES section of this notice. This notice is being published in accordance with the NEPA and the NRC's regulations in 10 CFR part 51.

II. Summary of Environmental Assessment

Description of the Proposed Action

The proposed action is for the NRC to (1) amend Condition 9 of materials license SUB-1435 to change the authorized use of licensed material from “possession only for decommissioning” to “possession only” for a 20-year term and (2) grant an exemption from the NRC's decommissioning timeliness requirements in 10 CFR 40.42(d) for the term of the license. Under the proposed action and in accordance with current license conditions, the licensed DU material would remain onsite in the restricted area known as the DU Impact Area at JPG. In accordance with a Memorandum of Agreement (MOA) established in 2000 with the U.S. Fish and Wildlife Service and the U.S. Air Force, the Army would continue to maintain institutional control and implement land use restrictions over an area of approximately 206-km² [50,950-ac], which includes the DU Impact Area. Under the terms of the MOA, the Army would remain responsible for remediation of all contamination resulting from Army activities, including the ultimate remediation and control of all DU in the NRC-licensed DU Impact Area.

Environmental Impacts of the Proposed Action

In the EA, the NRC staff assessed the potential environmental impacts from the proposed license amendment and exemption to the following resource areas: Land use; geology and soils; water resources; ecological resources; climatology, meteorology, and air quality; environmental justice; and public and occupational health. The NRC staff also considered the cumulative impacts from past, present, and reasonably foreseeable future actions when combined with the proposed action.

All potential impacts from the proposed action were determined to be SMALL and not significant, as described in the EA. The NRC staff concluded that approval of the proposed action would not result in a significant increase in short-term or long-term radiological risk to public health or the environment. Furthermore, the NRC staff found that there would be no significant negative cumulative impact to any resource area from the proposed action when added to other past, present, and reasonably foreseeable future actions, and that a positive cumulative ecological impact would likely result from the continued management of the Big Oaks National Wildlife Refuge over the proposed action's 20-year duration.

Environmental Impacts of the Alternatives to the Proposed Action

As an alternative to the proposed action, the NRC staff considered denial of the proposed action (i.e., the “no-action” alternative). Under the no-action alternative, the NRC would not grant the license amendment or exemption, and the Army would need to comply with the terms of its current license, which authorizes possession only for decommissioning. Under this alternative, the Army would need to submit a decommissioning plan. Because remediation of the site would be complex, dangerous, and prohibitively expensive, the staff has assumed that decommissioning for restricted use would be necessary, similar to the Army's previously submitted and withdrawn proposal for decommissioning and restricted release. The NRC staff concluded, therefore, that decommissioning activities for a 20-year duration would be restricted due to the presence of unexploded ordnance and, therefore, the potential impacts of the no-action alternative over a period of 20 years would be SMALL and similar or identical to the impacts of the proposed action.

Discussion of Comments

The NRC received seven comment submittals from individuals or organizations. Several commenters stated their wish to continue receiving notifications or updates but did not have substantive comments on the draft EA. Two commenters provided comments on the draft EA, as summarized below.

One commenter recommended that the Army commit to indefinite environmental monitoring, and that this commitment be included in the final EA and FONSI. The NRC responded that the Army stated its intention to operate its monitoring program indefinitely and that the material currently in the DU Impact Area would remain in place and be subject to legally enforceable access controls and land use restrictions that the Army established in its MOA with the U.S. Fish and Wildlife Service and U.S. Air Force.

Another commenter expressed concerns about potential future migration of DU from the JPG site and requested assurance that there will continue to be public access to the semi-annual monitoring results, as well as an option for periodic public input regarding the site status. This commenter also asked that the NRC's review of the license occur more frequently than every 20 years and requested that an action plan be developed to address any indication of increased DU migration. The NRC responded that, as is currently the practice, the results of semi-annual radiation monitoring will continue to be publicly available through the NRC's ADAMS system or provided by the Army upon request. Regarding an option for periodic public input regarding the status of the site and license review frequency, the NRC would re-evaluate the terms of the license at the time of any future licensing action, as appropriate. A future evaluation for license renewal or amendment, extension of the exemption, or a decommissioning action would be subject to the NEPA review process, which includes public participation and input. Regarding the development and notice of an action plan to address any indication of increased migration of DU, the Army's environmental monitoring plan specifies action levels (DU concentrations in surface water, sediment, and groundwater) and procedures to be followed if action levels are exceeded in samples. The action levels are well below the NRC effluent limits in appendix B of 10 CFR part 20.

III. Final Finding of No Significant Impact

In accordance with the NEPA and 10 CFR part 51, the NRC staff has conducted an environmental review of a request for an amendment to NRC source materials license SUB-1435 that would change the authorized use of licensed material from “possession only for decommissioning” to “possession only” and for an exemption from the NRC's decommissioning timeliness requirements in 10 CFR 40.42(d). Based on its environmental review of the proposed action, as documented in the final EA, the NRC staff has determined that granting the requested license amendment and exemption would not significantly affect the quality of the human environment. The staff has concluded that the proposed action complies with the NRC's regulations in 10 CFR part 20, that all potential impacts from the proposed action would be SMALL, and that approval of the proposed action would not result in a significant increase in short-term or long-term radiological risk to public health or the environment. The staff also found that there would be no significant negative cumulative impacts and that a positive cumulative ecological impact would likely result from the continued management of the Big Oaks National Wildlife Refuge over the proposed action's 20-year duration. Therefore, the NRC staff has determined, pursuant to 10 CFR 51.31, that preparation of an environmental impact statement is not required for the proposed action and a FONSI is appropriate.

Dated at Rockville, Maryland, this 24th day of June 2019.
For the Nuclear Regulatory Commission.
Michael F. King,
Director, Division of Fuel Cycle Safety, Safeguards, and Environmental Review, Office of Nuclear Material Safety and Safeguards.

[FR Doc. 2019-13691 Filed 6-26-19; 8:45 am]

BILLING CODE 7590-01-P